DEPARTMENT OF COMMERCE

National Oceanic and Atmospheric Administration

Public Comment of the Interagency Working Group on Ocean Acidification (IWG-OA)

AGENCY: Office of Oceanic and Atmospheric Research (OAR), National Oceanic and Atmospheric Administration (NOAA), Department of Commerce (DOC).

ACTION: Notice of public comment.

SUMMARY: This notice announces the Draft Strategic Plan for Federal Research and Monitoring of Ocean Acidification is available for public comment. Developed by the Interagency Working Group on Ocean Acidification of the National Science and Technology Council's Subcommittee on Ocean Science and Technology, this Draft Strategic Plan presents an updated vision for how to move Federal agencies toward a better understanding of the process of ocean acidification, its effects on marine ecosystems, and the steps that could be taken to adapt marine resource management to account for it.

DATES: Comments must be received on or before November 12, 2022.

ADDRESSES: A copy of the Draft Strategic Plan may be downloaded or viewed on the internet at: https://oceanacidification.noaa.gov/FederalStrategicPlan.aspx. You are encouraged to use the comment form spreadsheet provided on the same website to submit your comments. However, comments will also be accepted in word, pdf, or email body. Please submit public comments via email to courtney.cochran@noaa.gov with the subject line “Public Comment on Draft OA Strategic Plan.” No business proprietary information, copyrighted information, or personally identifiable information should be submitted in response to this request. Please be aware that comments submitted may be posted on a federal website or otherwise released publicly. Clearly indicate which section, page number, and line number, if applicable, submitted comments pertain to. All comments must be provided in English. Please note that the U.S. Government will not pay for response preparation, or for the use of any information contained in the response.

FOR FURTHER INFORMATION CONTACT: Courtney Cochran, Executive Secretary, Interagency Working Group on Ocean Acidification (Phone Number: 937-903-3112) (Email: courtney.cochran@noaa.gov).

SUPPLEMENTARY INFORMATION: The development of this Strategic Plan (Plan) was directed by section 12404(c) and guided by section 12405 of the Federal Ocean Acidification Research And Monitoring Act of 2009, 33 U.S.C. 3701-3708, and (FOARAM Act). The Plan is intended to guide “Federal research and monitoring on ocean acidification that will provide for an assessment of the impacts of ocean acidification on marine organisms and marine ecosystems and the development of adaption and mitigation strategies to conserve marine organisms and marine ecosystems.”

This Plan builds on the first Strategic Plan for Federal Research and Monitoring of Ocean Acidification, released in 2014. The present document serves as the required 5-year update and revision to this 2014 document. The 2014 Strategic Plan and this new Strategic Plan focus on the seven priority themes identified in the FOARAM Act: (1) monitoring; (2) research; (3) modeling; (4) technology development; (5) socioeconomic impacts; (6) education, outreach, and engagement strategies; and (7) data management and integration. The new Strategic Plan is organized around these themes and details multiple objectives under each as well as actions to support the objectives. Many of the objectives and actions listed in this Strategic Plan are interconnected, reflecting the interdisciplinary nature of ocean acidification research and transdisciplinary Federal activities on it. For each action, it is indicated whether the action is new, revised, or the same as the action in the 2014 Strategic Plan. Information on federal spending on ocean acidification monitoring and research activities will be included in the final version of the plan; there is currently placeholder text, as public comment is not accepted on this portion of the plan.

David Holst,
Chief Financial Officer/Administrative Officer, Office of Oceanic and Atmospheric Research, National Oceanic and Atmospheric Administration.

[FR Doc. 2022-20215 Filed 9-16-22; 8:45 am]

BILLING CODE 3510-KD-P